DEPARTMENT OF AGRICULTURE

Farm Service Agency

Information Collection; Tobacco Marketing Quotas and Price Support

AGENCY: Farm Service Agency, USDA.

ACTION: Notice; request for comments.

SUMMARY: In accordance with the Paperwork Reduction Act of 1995, the Farm Service Agency (FSA) is seeking comments from all interested individuals and entities on the extension and revision of a currently approved information collection associated with the Tobacco Marketing Quota and Price Support program. The regulations used to administer these activities are authorized by the Agricultural Adjustment Act of 1938, as amended and the Agricultural Act of 1949, as amended.

DATES: Comments on this notice must be received on or before June 25, 2004, to be assured of consideration.

ADDRESSES: The Farm Service Agency invites interested persons to submit comments on the collection of information. Comments may be submitted by any of the following methods;

• E-Mail: Send comments to tobcomments@wdc.usda.gov.

• Fax: Submit comments by facsimile transmission to: (202) 720-0549.

• Mail: Send comments to Director, Tobacco Division, FSA, USDA, 1400 Independence Avenue, SW., Room 5750-S, STOP 0514, Washington, DC 20250-0514.

• Hand Delivery or Courier: Deliver comments to the above address.

Comments on the information collection requirements may also be sent to Desk Officer for Agriculture, Office of Information and Regulatory Affairs, Office of Management and Budget, Washington, DC 20503.

Comments may be inspected in the Tobacco Division at the address shown above during normal business hours. Visitors are encouraged to call ahead at (202) 720-7413 to facilitate entry into the building. Individuals who use telecommunication devices for the deaf (TDD) may call the Federal Information Relay Service (FIRS) at 1-800-877-8339 between 8 a.m. to 8 p.m., eastern standard time, Monday through Friday.

FURTHER INFORMATION CONTACT: Joe Lewis Jr., Tobacco Division, (202) 720-0795 or joe_lewis@wdc.usda.gov.

SUPPLEMENTARY INFORMATION: Title: Tobacco Marketing Quota and Price Support Program, 7 CFR parts 711, 723 and 1464.

OMB Control Number: 0560-0058.

Expiration Date: September 30, 2004.

Type of Request: Extension and Revision of a Currently Approved Information Collection.

Abstract: Information collected from tobacco producers and owners of farms with tobacco allotments or quotas is needed to properly establish tobacco acreage allotments and marketing quotas for farms. This information is also needed to transfer quota between farms and to determine price support eligibility. Due to the fact that tobacco marketing quotas are highly regulated, information is needed to show the following: (a) Where tobacco acreage is planted, (b) how much tobacco is planted, and (c) where and how much tobacco is marketed. Tobacco marketed in excess of a farm marketing quota is subject to a marketing penalty equal to 75 percent of the previous year's average market price to producers.

Information collected from tobacco dealers, auction warehouses, processors and others involved in the marketing, buying, or handling of tobacco is needed to effectively administer the marketing quota provisions of the tobacco program. In order to accurately account for the production and marketing of tobacco on an individual farm basis, records and reports are needed from persons that acquire or handle producer tobacco. In order to determine if any tobacco in excess of a farm marketing quota has been marketed, these persons must maintain records and make reports on their purchases and sales of tobacco. Warehouse operators must maintain records and make reports showing the sales and purchases of tobacco handled by the warehouse. These reports are reviewed to ensure that excess tobacco is not marketed without being subject to marketing quota penalties.

Information collected from domestic manufacturers of cigarettes is needed to establish the national marketing quotas for burley and flue-cured tobacco. By statute, the national marketing quota is based, in part, on the amount of tobacco the domestic cigarette manufacturers intend to purchase from the next crop year. The domestic cigarette manufacturers must also report their actual purchases and maintain records that support their purchases of producer tobacco.

Estimate of Burden: Public reporting burden for all information collection related to the tobacco program is estimated to average 7.75 minutes per response.

Respondents: Individual tobacco producers, allotment or quota owners, tobacco auction warehouses, dealers and others involved in the marketing or buying of tobacco which may include small and medium sized businesses and five domestic manufacturers.

Estimated Number of Respondents:

Tobacco Producers: 314,236.

Dealers, Warehouses and Others: 300.

Domestic Cigarette Manufacturers: 5.

Total: 314,541.

Estimated Number of Responses per Respondent:

Tobacco Producers: 3.

Dealers, Warehouses and Others: 15.

Domestic Cigarette Manufacturers: 2.

Total: 20.

Estimated Total Annual Burden on Respondents:

Tobacco Producers: 121,766 hours.

Dealers, Warehouses and Others: 581 hours.

Domestic Cigarette Manufacturers: 1 hours.

Total: 122,348 hours.

Comment is invited on: (a) Whether the collection of information is necessary for the proper performance of the functions of the agency, including whether the information will have practical utility; (b) the accuracy of the agency's estimate of burden including the validity of the methodology and assumptions used; (c) ways to enhance the quality, utility, and clarity of the information to be collected; or (d) ways to minimize the burden of the collection of information on those who are to respond, including through the use of appropriate automated, electronic, mechanical or other technological collection techniques or other forms of information technology.

All comments received in response to this notice, including names and addresses when provided, will be a matter of public record. Comments will be summarized and included in the request of Office of Management and Budget approval.

Signed in Washington, DC, on April 20, 2004.
Michael W. Yost,
Acting Administrator, Farm Service Agency.

[FR Doc. 04-9418 Filed 4-23-04; 8:45 am]

BILLING CODE 3410-05-P